DEPARTMENT OF DEFENSE

Office of the Secretary

Defense Policy Board; Notice of Federal Advisory Committee Meeting

AGENCY: Under Secretary of Defense for Policy, Department of Defense (DoD).

ACTION: Notice of Federal Advisory Committee meeting.

SUMMARY: The DoD is publishing this notice to announce that the following Federal Advisory Committee meeting of the Defense Policy Board (DPB) will take place.

DATES: Closed to the public Tuesday, October 6, 2020 from 8:00 a.m. to 5:00 p.m. and Wednesday, October 7, 2020 from 8:00 a.m. to 12:00 p.m.

ADDRESSES: The closed meeting will be held at The Pentagon, 2000 Defense Pentagon, Washington, DC 20301-2000.

FOR FURTHER INFORMATION CONTACT: Ms. Monica Bacheler, (703) 571-9234 (Voice), 703-697-8606 (Facsimile), monica.t.bacheler.civ@mail.mil (Email). Mailing address is 2000 Defense Pentagon, Washington, DC 20301-2000.

SUPPLEMENTARY INFORMATION: Due to circumstances beyond the control of the Department of Defense and the Designated Federal Officer, the Defense Policy Board was unable to provide public notification required by 41 CFR 102-3.150(a) concerning the meeting of October 6 through 7, 2020 of the Defense Policy Board. Accordingly, the Advisory Committee Management Officer for the Department of Defense, pursuant to 41 CFR 102-3.150(b), waives the 15-calendar day notification requirement.

This meeting is being held under the provisions of the Federal Advisory Committee Act (FACA) (5 U.S.C., App.), the Government in the Sunshine Act (5 U.S.C. 552b), and Title 41 Code of Federal Regulations (CFR), Sections 102-3.140 and 102-3.150.

Purpose of the Meeting: To obtain, review, and evaluate classified information related to the DPB's mission to advise on (a) issues central to strategic DoD planning; (b) policy implications of U.S. force structure and force modernization and on DoD's ability to execute U.S. defense strategy; (c) U.S. regional defense policies; and (d) other research and analysis of topics raised by the Secretary of Defense, the Deputy Secretary of Defense, or the Under Secretary of Defense for Policy.

Agenda: On October 6-7, 2020 the DPB will have classified discussions on the development of a long-term China strategy and to review the NDAA mandated study on “Deterrence in Space.” Topics and speakers include (1) an intel community briefing from the CIA; (2) a China operations briefing from select experts; (3) a briefing on the broader strategic challenges from select experts; (4) a competitive strategy discussion by the Office of Net Assessment; (5) Policy perspectives from the Acting Assistant Secretary of Defense for Indo-Pacific Security Affairs and the Assistant Secretary of Defense for Strategy, Plans, and Capabilities; and (6) a review of the NDAA “Deterrence in Space” study.

Meeting Accessibility: In accordance with section 10(d) of the FACA, and 41 CFR 102-3.155, the DoD has determined that this meeting shall be closed to the public. The Under Secretary of Defense (Policy), in consultation with the DoD FACA Attorney, has determined in writing that this meeting be closed to the public because the discussions fall under the purview of Section 552b(c)(1) of the Sunshine Act and are so inextricably intertwined with unclassified material that they cannot reasonably be segregated into separate discussions without disclosing classified material.

Written Statements: In accordance with Section 10(a)(3) of the FACA and 41 CFR 102-3.105(j) and 102-3.140(c), the public or interested organizations may submit written statements to the membership of the DPB at any time regarding its mission or in response to the stated agenda of a planned meeting. Written statements should be submitted to the DPB's Designated Federal Officer (DFO), which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: September 25, 2020.
Aaron T. Siegel,
Alternate OSD Federal Register, Liaison Officer, Department of Defense.

[FR Doc. 2020-21860 Filed 10-1-20; 8:45 am]

BILLING CODE 5001-06-P